DEPARTMENT OF ENERGY

Scoping Meetings for Radioisotope Thermoelectric Generator Relocation Environmental Assessment (EA)

AGENCY: Department of Energy.

ACTION: Notice of extension of comment period.

SUMMARY: The Department of Energy published on May 31, 2002, in the Federal Register, a notice announcing its intent to prepare an EA for determining the future location of the Department's Heat Source/Radioisotope Power System (HS/RPS) assembly and test operations. The Department invited comments on the proposed action and scope of the EA and announced public meetings to encourage public participation. The comment period was to continue for 21 days from the date of the publication of the Federal Register notice (till June 21, 2002).

This Federal Register notice extends the comment period till July 5, 2002. The comments received after this date will be considered to the extent practical.

DATES: The scoping comment period has been extended to July 5, 2002.

FOR FURTHER INFORMATION CONTACT: Please direct comments on the proposed relocation and scope of the EA, requests for copies of the EA, and questions concerning the project to: Mr. Timothy A. Frazier, U.S. Department of Energy, PO Box 66, Miamisburg, OH 45343-0066, Telephone: (937) 865-3748, Facsimile (937) 865-4489, Electronic mail: Tim.Frazier@hq.doe.gov For general information on DOE's National Environmental Policy Act process, please contact Ms. Carol Borgstrom, Office of NEPA Policy and Compliance, U.S. Department of Energy, 1000 Independence Avenue, Washington, DC 20585, telephone (202) 586-4600 or leave message at 1-(800) 472-2756.

Issued in Washington, DC, June 17, 2002.
William D. Magwood, IV,
Director, Office of Nuclear Energy, Science and Technology.

[FR Doc. 02-15685 Filed 6-20-02; 8:45 am]

BILLING CODE 6450-01-P